NUCLEAR REGULATORY COMMISSION

Sunshine Act Notice

AGENCY HOLDING THE MEETING: Nuclear Regulatory Commission.

DATES: Weeks of May 19, 26, June 2, 9, 16, 23, 2003.

PLACE: Commissioners' Conference Room, 11555 Rockville Pike, Rockville, Maryland.

STATUS: Public and Closed.

MATTERS TO BE CONSIDERED:

Week of May 19, 2003

There are no meetings scheduled for the Week of May 19, 2003.

Week of May 26, 2003—Tentative

Wednesday, May 28, 2003

9:30 a.m.—Meeting with Advisory Committee on the Medical Uses of Isotopes (ACMUI) (Public Meeting) (Contact: Angela Williamson, 301-415-5030)

This meeting will be webcast live at the Web address— www.nrc.gov

2:45 p.m.—Discussion of Management Issues (Closed—Ex. 2)

Thursday, May 29, 2003

9:30 a.m.—Briefing on Status of Revisions to the Regulatory Framework for Steam Generator Tube Integrity (Public Meeting) (Contact: Louise Lund, 301-415-3248)

This meeting will be webcast live at the Web address— www.nrc.gov

2 p.m.—Briefing on Equal Employment Opportunity Program (Public Meeting) (Contact: Corenthis Kelley, 301-415-7380)

Week of June 2, 2003—Tentative

Friday, June 6, 2003

10:00 a.m.—Discussion of Security Issues (Closed—Ex. 1)

Week of June 9, 2003—Tentative

Wednesday, June 11, 2003

10:30 a.m.—All Employees Meeting (Public Meeting)

1:30 p.m.—All Employees Meeting (Public Meeting)

Week of June 16, 2003—Tentative

There are no meetings scheduled for the Week of June 16, 2003.

Week of June 23, 2003—Tentative

There are no meetings scheduled for the Week of June 23, 2003.

* The schedule for Commission meetings is subject to change on short notice. To verify the status of meetings call (recording)—(301) 415-1292. Contact person for more information: David Louis Gamberoni (301) 415-1651.

The NRC Commission Meeting Schedule can be found on the Internet at: www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 15, 2003.
R. Michelle Schroll,
Acting Technical Coordinator, Office of the Secretary.

[FR Doc. 03-12711 Filed 5-16-03; 10:36 am]

BILLING CODE 7590-01-M